FEDERAL COMMUNICATIONS COMMISSION

[OMB 3060-1168; FR ID 176893]

Information Collection Being Reviewed by the Federal Communications Commission Under Delegated Authority

AGENCY: Federal Communications Commission.

ACTION: Notice and request for comments.

SUMMARY: As part of its continuing effort to reduce paperwork burdens, and as required by the Paperwork Reduction Act of 1995 (PRA), the Federal Communications Commission (FCC or Commission) invites the general public and other Federal agencies to take this opportunity to comment on the following information collections. Comments are requested concerning: whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information collection burden on small business concerns with fewer than 25 employees.

DATES: Written PRA comments should be submitted on or before December 11, 2023. If you anticipate that you will be submitting comments but find it difficult to do so within the period of time allowed by this notice, you should advise the contact listed below as soon as possible.

ADDRESSES: Direct all PRA comments to Cathy Williams, FCC, via email to PRA@fcc.gov and to Cathy.Williams@fcc.gov.

FOR FURTHER INFORMATION CONTACT: For additional information about the information collection, contact Cathy Williams at (202) 418-2918.

SUPPLEMENTARY INFORMATION: The FCC may not conduct or sponsor a collection of information unless it displays a currently valid Office of Management and Budget (OMB) control number. No person shall be subject to any penalty for failing to comply with a collection of information subject to the PRA that does not display a valid OMB control number.

OMB Control Number: 3060-1168.

Title: Application for Mobility Fund Phase I Support—FCC Form 680.

Form Number: FCC Form 680.

Type of Review: Extension of a currently approved collection.

Respondents: Business or other for-profit entities, not-for-profit institutions, and state, local or tribal governments.

Number of Respondents and Responses: 10 respondents and 10 responses.

Estimated Time per Response: 1.5 hours.

Frequency of Response: On occasion reporting requirement.

Obligation to Respond: Required to obtain or retain benefits. Statutory authority for this information collection 47 U.S.C. 154, 254 and 303(r).

Total Annual Burden: 15 hours.

Total Annual Cost: $0.

Needs and Uses: The Commission uses the information collected on FCC Form 680 to determine whether a winning bidder is qualified to receive Mobility Fund Phase I and Tribal Mobility Fund Phase I support. On November 18, 2011, the Commission released an order comprehensively reforming and modernizing the universal service and intercarrier compensation systems to ensure that robust, affordable voice and broadband service, both fixed and mobile, are available to Americans throughout the nation. Connect America Fund et al., Order and Further Notice of Proposed Rulemaking, FCC 11-161 (USF/ICC Transformation Order). In the USF/ICC Transformation Order, the Commission, among other things, created the Mobility Fund to ensure the availability of mobile broadband networks in areas where a private-sector business case is lacking. Phase I of the Mobility Fund provided one-time universal service support for the deployment of networks for mobile voice and broadband service, and a separate, complementary Tribal Mobility Fund Phase I provided one-time universal service support to accelerate the availability of mobile voice and broadband service on Tribal lands.

The Commission adopted rules to implement the reforms it adopted in the USF/ICC Transformation Order, including the rules in sections 1.21004(a), 54.1004, 54.1005, 54.1006, 54.1007, and 54.1008 which contain information collection requirements used to determine whether a winning bidder of Mobility Fund Phase I support and Tribal Mobility Fund Phase I support is qualified to receive such support.

Section 1.21004(a) of the Commission's rules requires each winning bidder in an auction for universal service support to apply for the support it won by the applicable deadline. Sections 54.1005(b) and 54.1006 require a winning bidder to submit, using FCC Form 680, ownership information, proof of its status as an Eligible Telecommunications Carrier, a description of its spectrum access, a detailed project description, any guarantee of performance that the Commission may require, and various certifications. Sections 54.1004(d)(3) and 54.1008(d) require a winning bidder to certify in its application that it has substantively engaged appropriate Tribal officials. In addition, sections 54.1007(a) and (b) require a winning bidder to obtain and submit to the Commission an irrevocable standby letter of credit, which the winning bidder must maintain until at least 120 days after the winning bidder receives its final distribution of support.

The information collection requirements ensure that a winning bidder submits an application for the universal service support it won, and the Commission uses the information submitted in the application to determine whether the applicant is legally, technically, and financially qualified to receive such support. The requirement that a winning bidder obtain, submit, and maintain a letter of credit will secure a return of universal service funds from a winning bidder that defaults on its obligations and will protect the integrity of the universal service programs. Without such information, the Commission could not determine whether to disburse universal service support to a winning bidder or protect the government's interest in the funds allocated for Mobility Fund Phase I and Tribal Mobility Fund Phase I.

Federal Communications Commission.
Marlene Dortch,
Secretary, Office of the Secretary.

[FR Doc. 2023-22424 Filed 10-6-23; 8:45 am]

BILLING CODE 6712-01-P